GENERAL SERVICES ADMINISTRATION

DEPARTMENT OF STATE

Office of Communications

Cancellation of an Optional Form

AGENCY: General Services Administration.

ACTION: Notice.

SUMMARY: The Department of State is cancelling the following Optional Form because of low usage:

OF 206, Purchase Order, Receiving Report and Voucher.

This form is now a State Department form (DS Form 2076). You can request copies of the new form from: Department of State, IS/OIS/DIR, 2201 C Street, NW; Room B264NS, Washington, DC 20520-0264.

DATES: Effective January 23, 2001.

FOR FURTHER INFORMATION CONTACT: Mr. Charles Cunnigham, Department of State, 202.647.0596.

Dated: January 3, 2001.
Barbara M. Williams,
Deputy Standard and Optional Forms Management Officer.

[FR Doc. 01-1913 Filed 1-22-01; 8:45 am]

BILLING CODE 6820-34-M